DEPARTMENT OF EDUCATION

National Institute on Disability and Rehabilitation Research

AGENCY: Office of Special Education and Rehabilitative Services, Department of Education.

ACTION: Notice of proposed priority.

SUMMARY: The Assistant Secretary for Special Education and Rehabilitative Services proposes a priority for Alternative Financing Program Technical Assistance (AFPTA) under title III of the Assistive Technology Act of 1998 (AT Act), which is administered by the National Institute on Disability and Rehabilitation Research (NIDRR). The Assistant Secretary may use this priority for competitions in fiscal year (FY) 2002 and later years. We take this action to focus attention on an identified national need. We intend this priority to provide information and technical assistance to States and outlying areas participating or interested in participating in the AFP.

DATES: We must receive your comments on or before September 9, 2002.

ADDRESSES: Address all comments about this proposed priority to Donna Nangle, Department of Education, 400 Maryland Avenue, SW., room 3412, Switzer Building, Washington, DC 20202-2645. If you prefer to send your comments through the Internet, use the following address: donna.nangle@ed.gov.

FOR FURTHER INFORMATION CONTACT: Donna Nangle. Telephone: (202) 205-5880 or via the Internet: donna.nangle@ed.gov. If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Invitation To Comment

We invite you to submit comments regarding this proposed priority.

We invite you to assist us in complying with the specific requirements of Executive Order 12866 and its overall requirement of reducing regulatory burden that might result from this proposed priority. Please let us know of any further opportunities we should take to reduce potential costs or increase potential benefits while preserving the effective and efficient administration of the program.

During and after the comment period, you may inspect all public comments about this priority in room 3412, Switzer Building, 330 C Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed priority. If you want to schedule an appointment for this type of aid, please contact the person listed under FOR FURTHER INFORMATION CONTACT.

Alternative Financing Program Technical Assistance Program (AFPTA)

Title III of the AT Act established an Alternative Financing Program (AFP), which pays part of the cost for the States and outlying areas to establish or maintain alternative financing projects to increase access to assistive technology (AT) for individuals with disabilities. The purpose of the AFPTA is to provide information and technical assistance to States and outlying areas participating in the AFP. Public or private agencies and organizations, including institutions of higher education, are the entities eligible for an AFPTA grant award.

This priority reflects issues discussed in the New Freedom Initiative (NFI) and NIDRR's Long-Range Plan (the Plan). The NFI can be accessed on the Internet at: http://www.whitehouse.gov/news/freedominitiative/freedominiative.html. The Plan can be accessed on the Internet at: http://www.ed.gov/offices/OSERS/NIDRR/Products.

We will announce the final priority in a notice in the Federal Register. We will determine the final priority after considering responses to this notice and other information available to the Department. This notice does not preclude us from proposing or funding additional priorities, subject to meeting applicable rulemaking requirements.

Note: This notice does not solicit applications. In any year in which we choose to use this proposed priority, we invite applications through a notice in the Federal Register. When inviting applications, we designate the priority as absolute, competitive preference, or invitational. The effect of each priority follows:

Absolute priority: Under an absolute priority, we consider only applications that meet the priority (34 CFR 75.105(c)(3)).

Competitive preference priority: Under a competitive preference priority, we give competitive preference to an application by either (1) awarding additional points, depending on how well or the extent to which the application meets the priority (34 CFR 75.105(c)(2)(i)); or (2) selecting an application that meets the priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Priority

Background

We are particularly interested in applications that propose ways to collect, analyze, compile and report data provided by the AFP projects.

You may obtain additional information about the background of this priority by contacting the person listed under FOR FURTHER INFORMATION CONTACT.

Statutory Priority

As required by section 306(a) of the AT Act, the AFPTA project must:

(a) Provide assistance to States preparing applications for the AFP;

(b) Assist States to develop and implement the AFP; and

(c) Provide any other information and TA the Assistant Secretary determines to be appropriate to assist States to achieve the objectives of AFP.

Proposed Priority

In addition to the statutory priority, NIDRR is particularly interested in having the AFPTA collect, analyze, compile, and report data provided by the AFP projects. AFP projects currently report data using an instrument that was developed and implemented to assist the State grantees with their data collection obligations. NIDRR will provide this instrument to the grantee upon receipt of award. The AFPTA must:

(1) Collect data from the AFP projects and assist the projects in this effort;

(2) Propose strategies for reviewing the AFP data collection instrument to determine what modifications should be made to improve its usability, reliability and validity and suggest strategies to facilitate and expedite the collection of uniform annual data from the AFP projects;

(3) Provide technical assistance to the State grantees on the data collection instrument that will support and improve the data collection efforts of the States;

(4) Provide technical assistance and training to State grantees on data collection strategies that will improve the quality of the data collected; and

(5) Through the technical assistance activities conducted under this priority, the project shall prepare a report on the activities funded under this Title. The report shall include the following: (a) the type of alternative financing mechanisms used by each State and the community-based organization with which each State entered into a contract, under the program; and (b) the amount of assistance given to consumers through the program who shall be classified by age, type of disability, type of assistive technology device or assistive technology service financed through the program, geographic distribution within the State, gender, and whether the consumers are part of an underrepresented population or rural population and, includes an executive summary, description of data collection procedures utilized and an analysis of the aggregated States' data including a discussion of trends.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

(Catalog of Federal Domestic Assistance Number 84.224C, Alternative Financing Program.)

Program Authority: 29 U.S.C. 3056.

Dated: August 5, 2002.
Robert H. Pasternack,
Assistant Secretary for Special Education and, Rehabilitative Services.

[FR Doc. 02-20065 Filed 8-7-02; 8:45 am]

BILLING CODE 4000-01-P